DEPARTMENT OF THE INTERIOR

Minerals Management Service

30 CFR Part 250

RIN 1010-AC47

Oil and Gas and Sulphur Operations in the Outer Continental Shelf—Plans and Information

AGENCY: Minerals Management Service (MMS), Interior.

ACTION: Extension of comment period for proposed rule.

SUMMARY: This document extends to December 13, 2002, the previous deadline of August 15, 2002, for submitting comments on the proposed rule published May 17, 2002 (67 FR 35372), that describes plan submittals for oil and gas exploration, development and production on the Outer Continental Shelf (OCS).

DATES: We will consider all comments received by December 13, 2002, and we may not fully consider comments received after December 13, 2002.

ADDRESSES: Mail or hand-carry written comments (three copies) to the Department of the Interior; Minerals Management Service; 381 Elden Street; Mail Stop 4024; Herndon, Virginia 20170-4817; Attention: Rules Processing Team. If you wish to e-mail comments, the e-mail address is: rules.comments@MMS.gov. Reference “AC47 Plans and Information Comments” in your e-mail subject line. Include your name and return address in your e-mail message and mark your message for return receipt.

FOR FURTHER INFORMATION CONTACT: Kumkum Ray, Engineering and Operations Division, at (703) 787-1600.

SUPPLEMENTARY INFORMATION: The MMS published a proposed rulemaking on May 17, 2002 (67 FR 35372), to completely reorganize and update the 30 CFR 250, subpart B, regulations that describe plan submittals for oil and gas exploration and development and production on the OCS. In addition, MMS prepared a companion draft Notice to Lessees and Operators (NTL) for the Gulf of Mexico OCS Region (GOM OCS Region). The draft NTL further interprets the proposed rule regarding information required to be submitted for MMS determinations, analyses, and approvals of plans in the GOM OCS Region. The draft NTL is posted on our MMS web site with the proposed rule for comment. Both the proposed rule and the NTL are very extensive and detailed. Therefore, the Offshore Operators Committee (OOC) requested that we extend the comment period in a letter to MMS dated June 6, 2002. The OOC stated that the additional time was necessary to allow reviewers to prepare comprehensive written comments on the proposed rule and NTL. We have agreed to their request and this notice extends the comment period to December 13, 2002.

Public Comments Procedures: Our practice is to make comments, including names and home addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: June 18, 2002.
E.P. Danenberger,
Chief, Engineering and Operations Division.

[FR Doc. 02-17881 Filed 7-15-02; 8:45 am]

BILLING CODE 4310-MR-P